ENVIRONMENTAL PROTECTION AGENCY

[Petition IV-2019-7; FRL-8783-01-R4]

Clean Air Act Operating Permit Program; Petition for Objection to State Operating Permit for ABC Coke Plant (Jefferson County, Alabama); Notice of Final Order

AGENCY: Environmental Protection Agency (EPA).

ACTION: Notice of final order on petition to object to state operating permit.

SUMMARY: On June 30, 2021, the Environmental Protection Agency (EPA) Administrator signed an Order denying a petition dated June 13, 2019 (the Petition) from Gasp (Petitioner). The Petition requested that EPA object to a Clean Air Act (CAA) title V operating permit issued to Drummond Coke for its ABC Coke Plant located in Jefferson County, Alabama. The title V operating permit was issued by the Jefferson County Department of Health (JCDH) with a final permit number 4-07-0001-04. The Order constitutes a final action on the Petition.

ADDRESSES: Copies of the Order, the Petition, and all pertinent information relating thereto are on file at the following location: U.S. EPA Region 4; Air and Radiation Division; 61 Forsyth Street SW; Atlanta, Georgia 30303-8960. The Order and Petition are also available electronically at the following addresses: https://www.epa.gov/sites/production/files/2021-07/documents/abc_coke_order_7-07-21.pdf; https://www.epa.gov/title-v-operating-permits/title-v-petition-database.

FOR FURTHER INFORMATION CONTACT: Art Hofmeister, Air Permits Section, Air Planning and Implementation Branch, Air and Radiation Division, U.S. EPA, Region 4, 61 Forsyth Street SW, Atlanta, GA 30303-8960. The telephone number is (404) 562-9115. Mr. Hofmeister can also be reached via electronic mail at hofmeister.art@epa.gov.

SUPPLEMENTARY INFORMATION: The Clean Air Act (CAA) affords EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of EPA's 45-day review period if EPA has not objected on its own initiative. Petitions must be based only on objections to the permit that were raised with reasonable specificity during the public comment period provided by the state, unless the petitioner demonstrates that it was impracticable to raise these issues during the comment period or the grounds for the issues arose after this period.

Petitioner submitted a petition requesting that EPA object to the CAA title V operating permit no. 4-07-0001-04 issued by JCDH to the ABC Coke Plant. Petitioner requested that the Administrator object to the permit for the following reasons: The permit omitted applicable requirements, including requirements related to total annual benzene; the permit failed to include adequate monitoring to ensure compliance with applicable requirements; and the permit application was inadequate or incomplete.

On June 30, 2021, the Administrator issued an Order denying the Petition. The Order explains EPA's basis for denying the Petition. Pursuant to sections 307(b) and 505(b)(2) of the CAA, a petition for judicial review of those parts of the Order that deny issues in the Petition may be filed in the United States Court of Appeals for the appropriate circuit within 60 days from the date this notice is published in the Federal Register.

Dated: July 27, 2021.
John Blevins,
Acting Regional Administrator, Region 4.

[FR Doc. 2021-16612 Filed 8-3-21; 8:45 am]

BILLING CODE P